DEPARTMENT OF HEALTH AND HUMAN SERVICES

Substance Abuse and Mental Health Services Administration

Center for Mental Health Services; Notice of Meeting

Pursuant to Public Law 92-463, notice is hereby given of a Telephone Conference Call meeting of the Center for Mental Health Services (CMHS) National Advisory Council in August 2002.

The meeting will include the review, discussion and evaluation of individual grant applications. Therefore the meeting will be closed to the public as determined by the Administrator, SAMHSA, in accordance with Title 5 U.S.C. 552b(c)(6) and 5 U.S.C. App. 2. & 10(d).

Substantive program information, a summary of the meeting and a roster of Council members may be obtained from the contact listed below.

Committee Name: Center for Mental Health Services National Advisory Council.

Meeting Date: August 5, 2002 (Closed).

Time: 12 p.m.-2 p.m.

Place(s): Parklawn Building, 5600 Fishers Lane, Conference Room 17-94, Rockville, Maryland 20857.

Contact: Eileen S. Pensinger, M.Ed., 5600 Fishers Lane, Parklawn Building, Room 17C-27, Rockville, Maryland 20857, Telephone: (301) 443-4823.

This notice is being published less than 15 days prior to the meeting due to the urgent need to meet timing limitations imposed by the review and funding cycle.

Dated: July 30, 2002.
Toian Vaughn,
Committee Management Officer, Substance Abuse and Mental Health Services Administration.

[FR Doc. 02-19633 Filed 8-2-02; 8:45 am]

BILLING CODE 4162-20-P